DEPARTMENT OF HOMELAND SECURITY

Federal Emergency Management Agency

[Docket ID FEMA-2014-0002; Internal Agency Docket No. FEMA-B-1442]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of Letter of Map Revision | Effective date of modification | Community No.
Alabama: Tuscaloosa | City of Tuscaloosa (14-04-3253P) | The Honorable Walter Maddox, Mayor, City of Tuscaloosa, 2201 University Boulevard, Tuscaloosa, AL 35401 | Engineering Department, 2201 University Boulevard, Tuscaloosa, AL 35401 | http://www.msc.fema.gov/lomc | November 19, 2014 | 010203
Arizona:
Maricopa | City of Scottsdale (14-09-2290P) | The Honorable Jim Lane, Mayor, City of Scottsdale, 3939 North Drinkwater Boulevard, Scottsdale, AZ 85251 | City Hall, 3939 North Drinkwater Boulevard, Scottsdale, AZ 85251 | http://www.msc.fema.gov/lomc | December 5, 2014 | 045012
Mohave | Unincorporated areas of Mohave County (14-09-0834P) | The Honorable Gary Watson, Chairman, Mohave County Board of Supervisors, 700 West Beale Street, Kingman, AZ 86401 | Mohave County Administration Building, 700 West Beale Street, Kingman, AZ 86401 | http://www.msc.fema.gov/lomc | November 20, 2014 | 040058
Santa Cruz | City of Nogales (13-09-1781P) | The Honorable Arturo R. Garino, Mayor, City of Nogales, 777 North Grand Avenue, Nogales, AZ 85621 | Public Works Department, 1450 North Hohokam Drive, Nogales, AZ 85621 | http://www.msc.fema.gov/lomc | November 12, 2014 | 040091
California:
Alameda | City of Fremont (14-09-0273P) | The Honorable Bill Harrison, Mayor, City of Fremont, 3300 Capitol Avenue, Fremont, CA 94538 | Development Services Center, 39550 Liberty Street, Fremont, CA 94538 | http://www.msc.fema.gov/lomc | November 28, 2014 | 065028
Napa | City of Napa (14-09-2231P) | The Honorable Jill Techel, Mayor, City of Napa, P.O. Box 660, Napa, CA 94559 | Public Works Department, 1600 1st Street, Napa, CA 94559 | http://www.msc.fema.gov/lomc | November 12, 2014 | 060207
Riverside | Unincorporated areas of Riverside County (14-09-1024P) | The Honorable Jeff Stone, Chairman, Riverside County Board of Supervisors, 4080 Lemon Street, 5th Floor, Riverside, CA 92501 | Riverside County Flood Control and Water Conservation District, 1995 Market Street, Riverside, CA 92501 | http://www.msc.fema.gov/lomc | October 20, 2014 | 060245
San Diego | Unincorporated areas of San Diego County (14-09-1892P) | The Honorable Dianne Jacob, Chair, San Diego County Board of Supervisors, 1600 Pacific Highway, San Diego, CA 92101 | San Diego County Department of Public Works, Flood Control Division, 5510 Overland Avenue, Suite 410, San Diego, CA 92123 | http://www.msc.fema.gov/lomc | December 2, 2014 | 060284
Tulare | Unincorporated areas of Tulare County (13-09-2741P) | The Honorable Phillip Cox, Chairman, Tulare County Board of Supervisors, 2800 West Burrel Avenue, Visalia, CA 93291 | Tulare County Resource Management Headquarters, 5961 South Mooney Boulevard, Visalia, CA 93277 | http://www.msc.fema.gov/lomc | December 4, 2014 | 065066
Colorado:
Arapahoe | City of Cherry Hills Village (14-08-0050P) | The Honorable Doug Tisdale, Mayor, City of Cherry Hills Village, 2450 East Quincy Avenue, Cherry Hills Village, CO 80113 | City Hall, 2450 East Quincy Avenue, Cherry Hills Village, CO 80113 | http://www.msc.fema.gov/lomc | December 5, 2014 | 080013
Boulder | Town of Lyons (14-08-0669P) | The Honorable John O'Brien, Mayor, Town of Lyons, P.O. Box 49, Lyons, CO 80540 | Town Hall, 432 5th Avenue, Lyons, CO 80540 | http://www.msc.fema.gov/lomc | December 9, 2014 | 080029
Jefferson | City of Lakewood (14-08-0872P) | The Honorable Bob Murphy, Mayor, City of Lakewood, 480 South Allison Parkway, Lakewood, CO 80226 | Engineering Department, 480 South Allison Parkway, Lakewood, CO 80226 | http://www.msc.fema.gov/lomc | November 28, 2014 | 085075
Jefferson | Unincorporated areas of Jefferson County (14-08-0683P) | The Honorable Faye Griffin, Chair, Jefferson County Board of Commissioners, 100 Jefferson County Parkway, Golden, CO 80419 | Jefferson County Department of Planning and Zoning, 100 Jefferson County Parkway, Golden, CO 80419 | http://www.msc.fema.gov/lomc | December 5, 2014 | 080087
Florida:
Monroe | Unincorporated areas of Monroe County (14-04-5223P) | The Honorable Sylvia Murphy, Mayor, Monroe County, 1100 Simonton Street, Key West, FL 33040 | Monroe County Department of Planning and Environmental Resources, 2798 Overseas Highway, Marathon, FL 33050 | http://www.msc.fema.gov/lomc | December 2, 2014 | 125129
Polk | Unincorporated areas of Polk County (13-04-6579P) | The Honorable R. Todd Dantzler, Chairman, Polk County Board of Commissioners, P.O. Box 9005, Bartow, FL 33831 | Polk County Engineering Division, 330 West Church Street, Bartow, FL 33830 | http://www.msc.fema.gov/lomc | November 28, 2014 | 120261
Sarasota | Town of Longboat Key (14-04-6848P) | The Honorable Jim Brown, Mayor, Town of Longboat Key, 501 Bay Isles Road, Longboat Key, FL 34228 | Town Hall, 501 Bay Isles Road, Longboat Key, FL 34228 | http://www.msc.fema.gov/lomc | December 11, 2014 | 125126
Volusia | City of Orange City (14-04-0649P) | The Honorable Tom Laputka, Mayor, City of Orange City, 205 East Graves Avenue, Orange City, FL 32763 | Planning Department, 205 East Graves Avenue, Orange City, FL 32763 | http://www.msc.fema.gov/lomc | December 2, 2014 | 120633
Georgia:
Columbia | Unincorporated areas of Columbia County (14-04-0306P) | The Honorable Ron C. Cross, Chairman, Columbia County Board of Commissioners, P.O. Box 498, Evans, GA 30809 | Columbia County Stormwater Department, 603 Ronald Reagan Drive, Building A, East Wing, Evans, GA 30809 | http://www.msc.fema.gov/lomc | December 1, 2014 | 130059
Richmond | Augusta-Richmond County (14-04-2417P) | The Honorable Deke S. Copenhaver, Mayor, Augusta-Richmond County, 530 Greene Street, Augusta, GA 30901 | Augusta-Richmond County Planning and Development Department, 525 Telfair Street, Augusta, GA 30901 | http://www.msc.fema.gov/lomc | November 14, 2014 | 130158
Richmond | Augusta-Richmond County (14-04-4315P) | The Honorable Deke S. Copenhaver, Mayor, Augusta-Richmond County, 530 Greene Street, Augusta, GA 30901 | Augusta-Richmond County Planning and Development Department, 525 Telfair Street, Augusta, GA 30901 | http://www.msc.fema.gov/lomc | November 28, 2014 | 130158
Kentucky: Fayette | Lexington-Fayette Urban County Government (13-04-1223P) | The Honorable Jim Gray, Mayor, Lexington-Fayette Urban County Government, 200 East Main Street, Lexington, KY 40507 | Lexington-Fayette Urban County Government Planning Division, 101 East Vine Street, Lexington, KY 40507 | http://www.msc.fema.gov/lomc | November 24, 2014 | 210067
Montana: Mineral | Town of Superior (14-08-0313P) | The Honorable Roni Phillips, Mayor, Town of Superior, P.O. Box 729, Superior, MT 59872 | Town Hall, 105 Cedar Street, Superior, MT 59872 | http://www.msc.fema.gov/lomc | January 15, 2015 | 300128
North Carolina: Guilford | City of High Point (14-04-2188P) | The Honorable Bernita Sims, Mayor, City of High Point, 211 South Hamilton Street, High Point, NC 27260 | Engineering Services Department, 211 South Hamilton Street, High Point, NC 27260 | http://www.msc.fema.gov/lomc | November 27, 2014 | 370113
South Carolina:
Charleston | City of Charleston (14-04-7487X) | The Honorable Joseph P. Riley, Jr., Mayor, City of Charleston, P.O. Box 652, Charleston, SC 29402 | Department of Public Services, 75 Calhoun Street, 3rd Floor, Charleston, SC 29401 | http://www.msc.fema.gov/lomc | December 2, 2014 | 455412
Charleston | Town of Mount Pleasant (14-04-3646P) | The Honorable Linda Page, Mayor, Town of Mount Pleasant, 100 Ann Edwards Lane, Mount Pleasant, SC 29464 | Town Hall, 100 Ann Edwards Lane, Mount Pleasant, SC 29464 | http://www.msc.fema.gov/lomc | November 20, 2014 | 455417
Charleston | Unincorporated areas of Charleston County (14-04-3646P) | The Honorable Teddie E. Pryor, Sr., Chairman, Charleston County Council, 2700 Crestline Drive, North Charleston, SC 29405 | Charleston County Building Services Department, 4045 Bridge View Drive, North Charleston, SC 29405 | http://www.msc.fema.gov/lomc | November 20, 2014 | 455413
Lancaster | Unincorporated areas of Lancaster County (14-04-4016P) | The Honorable Larry McCullough, Chairman, Lancaster County Council, 101 North Main Street, Lancaster, SC 29721 | Lancaster County Building and Zoning Department, 101 North Main Street, Lancaster, SC 29721 | http://www.msc.fema.gov/lomc | December 11, 2014 | 450120
South Dakota:
Custer | Town of Hermosa (14-08-0158P) | The Honorable Linda Kramer, President, Town of Hermosa Board of Trustees, P.O. Box 298, Hermosa, SD 57744 | Planning and Zoning Commission, 230 Main Street, Hermosa, SD 57744 | http://www.msc.fema.gov/lomc | November 13, 2014 | 460230
Custer | Unincorporated areas of Custer County (14-08-0158P) | The Honorable Phil Lampert, Chairman, Custer County Board of Commissioners, 420 Mount Rushmore Road, Custer, SD 57730 | Custer County Department of Planning and Economic Development, 420 Mount Rushmore Road, Custer, SD 57730 | http://www.msc.fema.gov/lomc | November 13, 2014 | 460018
Lawrence | City of Spearfish (14-08-0440P) | The Honorable Dana Boke, Mayor, City of Spearfish, 625 North 5th Street, Spearfish, SD 57783 | City Hall, 625 North 5th Street, Spearfish, SD 57783 | http://www.msc.fema.gov/lomc | December 9, 2014 | 460046
Minnehaha | City of Hartford (14-08-0151P) | The Honorable Paul Zimmer, Mayor, City of Hartford, P.O. Box 727, Hartford, SD 57033 | City Hall, 125 North Main, Hartford, SD 57033 | http://www.msc.fema.gov/lomc | December 1, 2014 | 460180

(Catalog of Federal Domestic Assistance No. 97.022, “Flood Insurance.”)

Dated: September 29, 2014.
Roy E. Wright,
Deputy Associate Administrator for Mitigation, Department of Homeland Security, Federal Emergency Management Agency.

[FR Doc. 2014-25150 Filed 10-21-14; 8:45 am]

BILLING CODE 9110-12-P